DEPARTMENT OF THE INTERIOR

Bureau of Land Management

[19XL.LLIDI00000.L71220000.EO0000.LVTFDX508300.241A.4500137846]

DEPARTMENT OF AGRICULTURE

Forest Service

Notice of Availability of the Final Environmental Impact Statement for the Proposed Dairy Syncline Mine and Reclamation Plan, Caribou County, Idaho

AGENCY: Bureau of Land Management, Interior; United States Forest Service, Agriculture.

ACTION: Notice of Availability.

SUMMARY: In accordance with the National Environmental Policy Act of 1969 (NEPA), as amended, the Bureau of Land Management (BLM), Idaho Falls District, and the U.S. Department of Agriculture, Forest Service (USFS) Caribou-Targhee National Forest (CTNF), have prepared a Final Environmental Impact Statement (EIS) for the proposed Dairy Syncline Mine Project (Project) and by this notice are announcing its availability. This notice also announces the availability of the associated Proposed Resource Management Plan (RMP) Amendment for the 2012 BLM Pocatello Resource Management Plan, in accordance with the Federal Land Policy and Management Act of 1976, as amended.

DATES: BLM planning regulations state that any person who meets the conditions as described in the regulations may protest the BLM's Proposed RMP Amendment. A person who meets the conditions and files a protest must file the protest within 30 days of the date that the Environmental Protection Agency publishes its Notice of Availability (NOA) in the Federal Register. A 60-day objection period for the Draft USFS Record of Decision (ROD) will start when the USFS publishes a legal notice in the newspaper of record.

ADDRESSES: Copies of the Dairy Syncline Mine and Reclamation Plan Final EIS and Proposed RMP Amendment are available for public inspection at the BLM Pocatello Field Office at 4350 Cliffs Drive, Pocatello, ID 83204. Interested persons may also review the Final EIS on the internet at the following locations:

• BLM Land Use Planning and NEPA Register: https://go.usa.gov/xUjcA.

• Caribou-Targhee National Forest Current and Recent Projects http://www.fs.usda.gov/projects/ctnf/landmanagement/projects.

All protests must be in writing and filed with the BLM Director, either as a hard copy or electronically via the BLM's ePlanning project website listed previously. To submit a protest electronically, go to the ePlanning project website and follow the protest instructions highlighted at the top of the home page. If submitting a protest in hard copy, it must be mailed to one of the following addresses:

Regular Mail: BLM Director (210), Attention: Protest Coordinator, P.O. Box 71383, Washington, DC 20024-1383

Overnight Delivery: BLM Director (210), Attention: Protest Coordinator, 20 M Street SE, Room 2134LM, Washington, DC 20003

FOR FURTHER INFORMATION CONTACT: Bill Stout, BLM Pocatello Field Office, 4350 Cliffs Drive, Pocatello, ID 83204; phone (208) 478-6367; email: jwstout@blm.gov; fax (208) 478-6376. Persons who use a telecommunications device for the deaf (TDD) may call the Federal Relay Service (FRS) at 1-800-877-8339 to contact Mr. Stout. The FRS is available 24 hours a day, 7 days a week, to leave a message or question for Mr. Stout. You will receive a reply during normal business hours.

SUPPLEMENTARY INFORMATION: The J.R. Simplot Company (Simplot) submitted a Mine and Reclamation Plan (MRP) application for agency review to extract phosphate rock from the Dairy Syncline leases (IDI-28115 and IDI-0258) located approximately 14 miles east of Soda Springs in Caribou County, Idaho.

The BLM, as the Federal mineral lease administrator, is the lead agency, and the USFS is the co-lead agency for preparation of the EIS. The proposed project would disturb about 2,770 acres as described in the Final EIS. In order to accommodate the proposed tailings pond, the BLM proposes a land sale and the USFS is considering a land exchange. The BLM land sale would require an amendment to the current Pocatello RMP and the land exchange would require a Forest Plan Amendment. The proposed decision to amend the 2012 Pocatello RMP clarifies that the lands proposed for sale meet the FLPMA 203(a) sale criteria and is the only decision subject to protest.

The NOA for the Draft EIS published on November 23, 2018, initiating a 90-day public comment period. Agencies, organizations, and interested parties provided comments on the Draft EIS/Draft RMP Amendment via mail, email, and public meetings. Comments on the Draft EIS/Draft RMP Amendment received from the public and internal BLM review were considered and incorporated, as appropriate, into the Final EIS and proposed plan amendment. Public comments resulted in the addition of clarifying text, but did not significantly change the proposed land use plan decisions.

The Final EIS fully addresses issues identified during scoping and during public review of the Draft EIS, and evaluates alternatives to the Proposed Action, including a No Action Alternative. The agency Preferred Alternative is the Proposed Action modified by Alternative 3 (reduces acreage of BLM land sale), Alternative 5 (reduce acreage of USFS land exchange), and Alternative 6 (reduces impacts to groundwater). The modifications made to the Proposed Action, making up the Preferred Alternative, result in a net gain of Federal land acreage and the fewest impacts to surface and groundwater of all the action alternatives.

Instructions for filing a protest with the Director of the BLM regarding the Proposed RMP Amendment may be found online at https://www.blm.gov/programs/planning-and-nepa/public-participation/filing-a-plan-protest and at 43 CFR 1610.5-2. All protests must be in writing and mailed to the appropriate address, as set forth in the ADDRESSES section above or submitted electronically through the BLM ePlanning project website as described above. Protests submitted electronically by any means other than the ePlanning project website protest section will be invalid unless a protest is also submitted in hard copy. Protests submitted by fax will also be invalid unless also submitted either through the ePlanning project website or in hard copy.

The BLM and USFS will make separate but coordinated decisions related to the proposed Project. The BLM decisions are related to: (1) Approval of the MRP and/or alternatives; (2) enlargement (modification) of the existing leases; (3) approval of the Resource Management Plan amendment for the land sale; (4) approval of the land sale as proposed or modified; and (5) acceptance of the 440-acre parcel donated by Simplot.

The USFS will provide a recommendation to BLM regarding surface management and the selected alternative on leased National Forest System lands. The USFS will make decisions related to: (1) Approval of the land exchange; (2) acceptance of the donation parcel; (3) Roadless Area boundary changes; (4) Special Use Authorizations for off-lease activities; and (5) amendments to the 2003 Revised Forest Plan for the Caribou National Forest to add management prescriptions and designate utility corridors.

The USFS decisions are subject to the objection process pursuant to 36 CFR 218 and 219. The USFS will provide instructions for filing objections to the Draft USFS ROD in the legal notice published in the newspaper of record. The USFS will only accept objections from those who have previously submitted specific written comments regarding the proposed project during scoping or other designated opportunities for public comment in accordance with 36 CFR 218.5(a) and 219.53(a). Objection issues must be based on previously submitted, timely, and specific written comments regarding the proposed project unless based on new information arising after designated opportunities. The BLM will release a ROD concurrent with release of the USFS Final ROD.

Before including your phone number, email address, or other personal identifying information in your protest, you should be aware that your entire protest—including your personal identifying information—may be made publicly available at any time. While you can ask us in your protest to withhold your personal identifying information from public review, we cannot guarantee that we will be able to do so.

Authority: 36 CFR 218 and 219; 40 CFR 1506.6 and 1506.10; 43 CFR 1610.2 and 3590.

John F. Ruhs,
State Director, Bureau of Land Management, Idaho State Office.
Mel Bolling,
Forest Supervisor, Caribou-Targhee National Forest.

[FR Doc. 2019-24218 Filed 11-7-19; 8:45 am]

BILLING CODE 4310-GG-P